DEPARTMENT OF THE INTERIOR

Bureau of Land Management

[WO-320-1330-PB-24 1A; OMB Control Number 1004-0121]

Information Collection Submitted to the Office of Management and Budget Under the Paperwork Reduction Act

The Bureau of Land Management (BLM) has sent a request to extend the current proposed collection to the Office of Management and Budget (OMB) under the provisions of the Paperwork Reduction Act (44 U.S.C. 3501 et seq.). On April 21, 2005, the BLM published a notice in the Federal Register (70 FR 20767) requesting comment on this information collection. The comment period ended on June 20, 2005. BLM did not receive any comments. You may obtain copies of the collection of information and related forms and explanatory material by contacting the BLM Information Collection Clearance Officer at the telephone number listed below.

The OMB must respond to this request within 60 days but may respond after 30 days. For maximum consideration your comments and suggestions on the requirement should be directed to the Office of Management and Budget, Interior Department Desk Officer (1004-0121), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the agency, including whether the information will have practical utility;

2. The accuracy of our estimates of the information collection burden, including the validity of the methodology and assumptions we use;

3. Ways to enhance the quality, utility and clarity of the information collected; and

4. Ways to minimize the information collection burden on those who are to respond, including the use of appropriate automated, electronic, mechanical, or other forms of information technology.

Title: Leasing of Solid Minerals Other Than Coal and Oil Shale (43 CFR 3500-3590).

OMB Control Number: 1004-0121.

Bureau Form Numbers: 3504-1, 3504-3, 3504-4, 3510-1, 3510-2, 3520-7.

Abstract: We use the information to determine whether an applicant, permittee, or lessee is qualified to hold an interest under the terms of the implementing regulations at 43 CFR 3500.

Frequency: On occasion.

Description of Respondents: Entities seeking to lease and develop solid minerals other than coal or oil shale.

Estimated Completion Time:

Type of application | Number of responses | Hours per response | Total hours | Cost to public
Prospecting Permit | 22 | 1 | 22 | $682
Exploration Plan for Prospecting Permit | 19 | 20 | 1,520 | 47,120
Prospecting Permit Extension | 5 | 10 | 50 | 1,550
Preference Right Lease | 2 | 300 | 600 | 18,600
Competitive Lease Bid | 5 | 20 | 100 | 3,100
Fringe Acreage Lease or Lease Modification | 5 | 20 | 100 | 3,100
Assignment or Sublease | 28 | 6 | 168 | 5.208
Lease Renewals or Adjustment | 22 | 1 | 22 | 682
Use Permit | 1 | 1 | 1 | 31
Exploration License | 1 | 3 | 3 | 93
Exploration Plan for Exploration License | 1 | 120 | 120 | 3,720
Development Contract | 1 | 1 | 1 | 31
Bond | 36 | 4 | 144 | 4,464
Mine Plan | 30 | 150 | 4,500 | 139,500
Total | 178 |  | 7,351 | 227,881

Annual Responses: 178.

Application Fee Per Response: $25.

Annual Burden Hours: 7,351.

Bureau Clearance Officer: Ted Hudson, (202) 452-5033.

Dated: August 8, 2006.
Ted R. Hudson,
Bureau of Land Management, Information Collection Clearance Officer.

[FR Doc. 06-6885 Filed 8-11-06; 8:45 am]

BILLING CODE 4310-84-M